DEPARTMENT OF LABOR

Employment and Training Administration

[TA-W-41,723]

Snorkel International, Omniquip Textron, Inc., Elwood, KS; Notice of Negative Determination Regarding Application for Reconsideration

By application received on October 4, 2002, a petitioner requested administrative reconsideration of the Department's negative determination regarding eligibility for workers and former workers of the subject firm to apply for Trade Adjustment Assistance (TAA). The denial notice applicable to workers of Snorkel International, Omniquip Textron Inc., Elwood, Kansas was signed on September 9, 2002, and published in the Federal Register on September 27, 2002 (67 FR 61160).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Snorkel International, Omniquip Textron Inc., Elwood, Kansas, engaged in activities related to production of aerial work platforms, was denied because the “contributed importantly” group eligibility requirement of section 222(3) of the Trade Act was not met. The contributed importantly test is generally demonstrated through a survey of the customers of the workers' firm. Results of the survey revealed that customers did not increase their imports of competitive products during the relevant period.

In requesting reconsideration, the petitioner attached a copy of an article taken from the company Web site referring to a significant shift in production from the Kansas facility to New Zealand.

As the same article was attached to the petition, a company official was contacted during the initial investigation to clarify the facts in the Web site article. The official revealed that, there is a company facility in New Zealand, but it does not service domestic customers and the company does not import aerial work platforms from this facility to the United States.

The company official further indicated that the article in question had been put on the Web site without official authorization from the company and was purely speculative.

Conclusion

After review of the application and investigative findings, I conclude that there has been no error or misinterpretation of the law or of the facts which would justify reconsideration of the Department of Labor's prior decision. Accordingly, the application is denied.

Signed in Washington, DC, this 3rd day of February, 2003.
Edward A. Tomchick,
Director, Division of Trade Adjustment Assistance.

[FR Doc. 03-4283 Filed 2-21-03; 8:45 am]

BILLING CODE 4510-30-P